DEPARTMENT OF COMMERCE

International Trade Administration

Advisory Committee on Supply Chain Competitiveness: Notice of Public Meetings

AGENCY: International Trade Administration, U.S. Department of Commerce.

ACTION: Notice of open meetings.

SUMMARY: This notice sets forth the schedule and proposed topics of discussion for public meetings of the Advisory Committee on Supply Chain Competitiveness (Committee).

DATES: This conference call meeting will be held on May 21, 2015, from 10:00 a.m. to 11:00 a.m., Eastern Standard Time (EST).

Call In Information: The conference call will have webinar capabilities. Participants can join the event directly at: https://www.mymeetings.com/nc/join.php?i=PW3670392&p=4490607&t=c. For those whose computers are compatible to the webinar system, this will give you both the ability to look at the document and hear the conversations of the meeting participants. For those that do not hear the audio from this site, you will have to call 1-877-951-7311 and input the passcode: 4490607 for audio.

FOR FURTHER INFORMATION CONTACT: Richard Boll, Office of Supply Chain, Professional & Business Services, International Trade Administration. (Phone: (202) 482-1135 or Email: richard.boll@trade.gov)

SUPPLEMENTARY INFORMATION:

Background

The Committee was established under the discretionary authority of the Secretary of Commerce and in accordance with the Federal Advisory Committee Act (5 U.S.C. App. 2). It provides advice to the Secretary of Commerce on the necessary elements of a comprehensive policy approach to supply chain competitiveness designed to support U.S. export growth and national economic competitiveness, encourage innovation, facilitate the movement of goods, and improve the competitiveness of U.S. supply chains for goods and services in the domestic and global economy; and provides advice to the Secretary on regulatory policies and programs and investment priorities that affect the competitiveness of U.S. supply chains. For more information about the Committee visit: http://trade.gov/td/services/oscpb/supplychain/acscc/.

Matters To Be Considered

Committee members are expected to deliberate and vote on the Trade and Competitiveness subcommittee's recommendation to Secretary Pritzker, which generally urges the Administration to expand market access for U.S. firms to international markets, implement the WTO Trade Facilitation Agreement (TFA), support customs trade transformation initiatives, and ensure our trading partners' compliance with our trade agreements. This recommendation, available at: http://trade.gov/td/services/oscpb/supplychain/acscc/documents/May%2021%202015%20Conf%20Call/ACSCC%20trade%20ltr%20to%20SPP%20TC%20Subcomm.pdf, has been reviewed and discussed over the last several open meetings of the ACSCC, most recently at the April 16 meeting. The Office of Supply Chain, Professional & Business Services will post the final agenda and the recommendation on its Web site at least one week prior to the meeting. The conference call will be open to the public and press on a first-come, first-served basis. Access lines are limited. The minutes of the meetings will be posted on the Committee Web site within 60 days of the meeting.

Dated: May 1, 2015.
David Long,
Director, Office of Supply Chain, Professional & Business Services.

[FR Doc. 2015-11073 Filed 5-6-15; 8:45 am]

BILLING CODE 3510-DR-P